DEPARTMENT OF ENERGY

Federal Energy Regulatory Commission

[Docket No. EF00-2012-000, et al.]

Department of Energy, et al.; Electric Rate and Corporate Regulation Filings

July 11, 2000.

Take notice that the following filings have been made with the Commission:

1. U.S. Department of Energy, Bonneville Power Administration

[Docket Nos. EF00-2012-000 and EF00-2013-000]

Take notice that the Bonneville Power Administration (BPA) on July 6, 2000, tendered for filing proposed rate adjustments for its wholesale power rates pursuant to pursuant to section 7(a)(2) of the Pacific Northwest Electric Power Planning and Conservation Act, 16 U.S.C. § 839e(a)(2). BPA seeks interim approval of its proposed rates effective September 15, 2000, pursuant to Commission regulation 300.20, 18 CFR 300.20. Pursuant to Commission regulation 300.21, 18 CFR 300.21, BPA seeks interim approval and final confirmation of the proposed rates for the periods set forth in this notice.

BPA requests approval effective October 1, 2001, through September 30, 2006, for the following proposed wholesale power rates: PF-02 Priority Firm Power Rate, RL-02 Residential Load Firm Power Rate, NR-02 New Resource Firm Power Rate, IP-02 Industrial Firm Power Rate, including the IPTAC, and NF-02 Nonfirm Energy Rate. In addition, BPA requests approval of the General Rate Schedule Provisions (GRSPs) for the period of October 1, 2001, through September 30, 2006. The GRSPs will apply to the 2002 wholesale power rates. BPA requests approval of the methodology used to calculate the rate for the Slice product sold under the PF rate schedule for the period October 1, 2001, to September 30, 2011. BPA requests final approval be granted by January 19, 2001, for the rate adjustments discussed above.

BPA requests interim approval by September 15, 2000, and final approval by December 8, 2000, of an adjustment to the 1996 GRSPs to enable BPA to recover costs of serving load unanticipated and not forecast in the 1996 rate case. This charge, known as Targeted Adjustment Charge for Uncommitted Loads (TACUL), will impose on certain PF-96 and NR-96 customers, only for the period December 8, 2000, to September 30, 2001, the costs of acquiring power to serve these loads which were not served by BPA during the 1996 rate period, but which are returning to BPA service before the 1996 rate period ends as these customers' other supply contracts expire.

Comment date: August 1, 2000, in accordance with Standard Paragraph E at the end of this notice.

2. Southern California Edison Company

[Docket No. EL00-89-000]

Take notice that on June 30, 2000, Southern California Edison Company (SCE) filed a Petition for Declaratory order pursuant to Rule 207(a)(2) of the Commission's Rules of Practice and Procedure (18 CFR 385.207(a)(2)). Southern California Edison asks the Commission to declare that the decision of the U.S. Court of Appeals for the District of Columbia Circuit in Southern California Edison Co. v. FERC, 195 F.3d 17 (1999) invalidating the “essential fixed assets” standard announced in Luz Solar Partners, Ltd., 30 FERC ¶ 61,122 at p. 61, 226 (1985), under which the Commission permitted uses of fossil fuel not authorized by PURPA by qualifying small power production facilities, is retroactively applicable to all qualifying small power production facilities; and that qualifying small power production facilities may not continue to use fossil fuel under the “essential fixed assets” standard and may be required to make refunds. SCE has attached to its petition a list of qualifying small power production facilities from which it purchases power and which it has served with a copy of the petition. SCE has asked the Commission to set this matter for alternative dispute resolution (ADR).

Comment date: August 11, 2000, in accordance with Standard Paragraph E at the end of this notice.

3. Western Resources, Inc.

[Docket No. ER00-3074-000]

Take notice that on July 6, 2000, Western Resources, Inc., tendered for filing a Service Agreement between Western Resources, Inc. and City of Columbia, Missouri, Water and Light Department (City). Western Resources states that the purpose of this agreement is to permit the City to take service under Western Resources' Market Based Power Sales Tariff on file with the Commission.

This agreement is proposed to be effective July 6, 2000.

Copies of the filing were served upon the City and the Kansas Corporation Commission.

Comment date: July 27, 2000, in accordance with Standard Paragraph E at the end of this notice.

4. California Independent System Operator Corporation

[Docket No. ER00-3076-000]

Take notice that on July 6, 2000, the California Independent System Operator Corporation, tendered for filing a Meter Service Agreement for ISO Metered Entities between the ISO and Lassen Municipal Utility District for acceptance by the Commission.

The ISO states that this filing has been served on Lassen Municipal Utility District and the California Public Utilities Commission.

The ISO is requesting waiver of the 60-day notice requirement to allow the Meter Service Agreement for ISO Metered Entities to be made effective June 28, 2000.

Comment date: July 27, 2000, in accordance with Standard Paragraph E at the end of this notice.

5. Public Service Company of New Mexico

[Docket No. ER00-3077-000]

Take notice that on July 6, 2000, Public Service Company of New Mexico (PNM), tendered for filing two executed service agreements with Cinergy Services, Inc., dated June 27, 2000, under PNM's Open Access Transmission Service Tariff. One agreement is for non-firm point-to-point transmission service and one agreement is for firm point-to-point transmission service. PNM's filing is available for public inspection at its offices in Albuquerque, New Mexico.

Copies of the filing have been sent to Cinergy Services, Inc., and to the New Mexico Public Regulation Commission.

Comment date: July 27, 2000, in accordance with Standard Paragraph E at the end of this notice.

6. PacifiCorp

[Docket No. ER00-3079-000]

Take notice that on July 6, 2000, PacifiCorp, tendered for filing in accordance with 18 CFR 35 of the Commission's Rules and Regulations, Revisions to Exhibits to the General Transfer Agreement between PacifiCorp and the Bonneville Power Administration (Bonneville).

Copies of this filing were supplied to Bonneville, the Washington Utilities and Transportation Commission and the Public Utility Commission of Oregon.

Comment date: July 27, 2000, in accordance with Standard Paragraph E at the end of this notice.

7. Otter Tail Power Company

[Docket No. ER00-3080-000]

Take notice that on July 6, 2000, Otter Tail Power Company (Otter Tail), tendered for filing with the Federal Energy Regulatory Commission a Wholesale Market-Based Rate Tariff and a pro forma Service Agreement, and proposed modifications to Otter Tail's Wholesale Coordination Sales Tariff No. 2. Otter Tail has mailed a copy of this filing to all of its customers under its Wholesale Coordination Sales Tariff No. 2.

Otter Tail states that its Wholesale Market-Based Rate Tariff and pro forma Service Agreement are being filed in order to conform to a pro forma tariff prepared by a group of representatives from various segments of the electric industry. Otter Tail will continue to utilize its existing Wholesale Coordination Sales Tariff No. 2 for existing service agreements, until such agreements expire.

Comment date: July 27, 2000, in accordance with Standard Paragraph E at the end of this notice.

8. Southwest Power Pool, Inc.

[Docket No. ER00-3081-000]

Take notice that on July 6, 2000, Southwest Power Pool, Inc. (SPP), tendered for filing executed service agreements for Firm Point-to-Point Transmission Service, Non-Firm Point-to-Point Transmission Service and Loss Compensation Service with DTE Energy Trading, Inc (DTE).

SPP seeks an effective date of June 26, 2000 for each of the service agreements.

Copies of this filing were served on DTE.

Comment date: July 27, 2000, in accordance with Standard Paragraph E at the end of this notice.

9. Florida Power & Light Company

[Docket No. ER00-3082-000]

Take notice that on July 7, 2000, Florida Power & Light Company (FPL), tendered for filing proposed service agreements with Allegheny Energy Supply Company, L.L.C. for Non-Firm transmission service and Firm transmission service under FPL's Open Access Transmission Tariff.

FPL requests that the proposed service agreements are permitted to become effective on July 7, 2000.

FPL states that this filing is in accordance with Part 35 of the Commission's Regulations.

Comment date: July 28, 2000, in accordance with Standard Paragraph E at the end of this notice.

10. South Carolina Electric & Gas Company

[Docket No. ER00-3083-000]

Take notice that on July 6, 2000, South Carolina Electric & Gas Company (SCE&G), tendered for filing a service agreement establishing DTE Energy Trading, Inc., as a non-firm point-to-point customer under the terms of SCE&G's Open Access Transmission Tariff.

SCE&G requests an effective date of one day subsequent to the filing of the service agreement. Accordingly, SCE&G requests waiver of the Commission's notice requirements.

Copies of this filing were served upon DTE Energy Trading, Inc. and the South Carolina Public Service Commission.

Comment date: July 27, 2000, in accordance with Standard Paragraph E at the end of this notice.

11. MidAmerican Energy Company

[Docket No. ER00-3084-000]

Take notice that on July 7, 2000, MidAmerican Energy Company (MidAmerican), 666 Grand Avenue, Des Moines, Iowa 50309, tendered for filing with the Commission a Firm Transmission Service Agreement with Corn Belt Power Cooperative (Corn Belt Power), dated June 12, 2000, entered into pursuant to MidAmerican's Open Access Transmission Tariff.

MidAmerican requests an effective date of June 15, 2000 for the Agreements with Corn Belt Power, and accordingly seeks a waiver of the Commission's notice requirement.

MidAmerican has served a copy of the filing on Corn Belt Power, the Iowa Utilities Board, the Illinois Commerce Commission and the South Dakota Public Utilities Commission.

Comment date: July 28, 2000, in accordance with Standard Paragraph E at the end of this notice.

12. Ameren Services Company

[Docket No. ER00-3085-000]

Take notice that on July 28, 2000, Ameren Services Company (ASC), tendered for filing a Service Agreement for Non-Firm Point-to-Point Transmission Service between ASC and Entergy Power Marketing Corp. (Entergy). ASC asserts that the purpose of the Agreement is to permit ASC to provide transmission service to Entergy pursuant to Ameren's Open Access Transmission Tariff filed in Docket No. ER96-677-004.

Comment date: July 28, 2000, in accordance with Standard Paragraph E at the end of this notice.

13. MidAmerican Energy Company

[Docket No. ER00-3086-000]

Take notice that on July 7, 2000, MidAmerican Energy Company (MidAmerican), 666 Grand Avenue, Des Moines, Iowa 50309, tendered for filing with the Commission a Firm Transmission Service Agreement with Cedar Falls Utilities (Cedar Falls), dated June 15, 2000, and a Non-Firm Transmission Service Agreement with Cedar Falls, dated June 15, 2000, entered into pursuant to MidAmerican's Open Access Transmission Tariff.

MidAmerican requests an effective date of June 15, 2000 for the Agreements with Cedar Falls, and accordingly seeks a waiver of the Commission's notice requirement.

MidAmerican has served a copy of the filing on Cedar Falls Utilities, the Iowa Utilities Board, the Illinois Commerce Commission and the South Dakota Public Utilities Commission.

Comment date: July 28, 2000, in accordance with Standard Paragraph E at the end of this notice.

14. Cleco Utility Group Inc.

[Docket No. ER00-3087-000]

Take notice that on July 7, 2000, Cleco Utility Group, Inc. (CLECO), tendered for filing Non-Firm and Short term firm point-to-point transmission service agreements under its Open Access Transmission Tariff with The Energy Authority, Inc.

CLECO requests that the Commission accept the Service Agreement with an effective date of July 7, 2000.

Comment date: July 28, 2000, in accordance with Standard Paragraph E at the end of this notice.

15. Commonwealth Edison Company

[Docket No. ER00-3088-000]

Take notice that on July 7, 2000, Commonwealth Edison Company (ComEd), tendered for filing a Short-Term Firm Transmission Service Agreements with Edison Mission Marketing & Trading, Inc. (EMMT) under the terms of ComEd's Open Access Transmission Tariff (OATT).

ComEd requests an effective date of ComEd of June 10, 2000, for the agreement with EMMT, and accordingly, seeks waiver of the Commission's notice requirements.

Comment date: July 28, 2000, in accordance with Standard Paragraph E at the end of this notice.

16. Northern Indiana Public Service Company

[Docket No. ER00-3089-000]

Take notice that on July 7, 2000, Northern Indiana Public Service Company tendered for filing an executed Standard Transmission Service Agreement for Non-Firm Point-to-Point Transmission Service between Northern Indiana Public Service Company and Detroit Edison Merchant Operations (Transmission Customer).

Under the Transmission Service Agreement, Northern Indiana Public Service Company will provide Point-to-Point Transmission Service to Transmission Customer pursuant to the Transmission Service Tariff filed by Northern Indiana Public Service Company in Docket No. OA96-47-000 and allowed to become effective by the Commission.

Northern Indiana Public Service Company has requested waivers to permit the Service Agreement to become effective as of June 1, 2000.

Copies of this filing have been sent to Detroit Edison Merchant Operations, the Indiana Utility Regulatory Commission, and the Indiana Office of Utility Consumer Counselor.

Comment date: July 28, 2000, in accordance with Standard Paragraph E at the end of this notice.

Standard Paragraphs

E. Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/ online/rims.htm (call 202-208-2222 for assistance).

David P. Boergers,
Secretary.

[FR Doc. 00-17996 Filed 7-14-00; 8:45 am]

BILLING CODE 6717-01-U